DEPARTMENT OF THE INTERIOR

Geological Survey

[Docket No. USGS-2025-0270; GX23AE38EMBOE00]

Notice of Availability of the Record of Decision for the Final Environmental Impact Statement, Proposed Development of an Updated Facility for the National Wildlife Health Center, Madison, Wisconsin

AGENCY: U.S. Geological Survey, Interior.

ACTION: Notice of availability of record of decision.

SUMMARY: The U.S. Department of the Interior (DOI), U.S. Geological Survey (USGS), announces the availability of the record of decision (ROD) for the proposal to develop an updated facility for the National Wildlife Health Center (NWHC) in Madison, Wisconsin. This preferred alternative decision follows a comprehensive environmental review and considers input and feedback from Federal, State, and local agencies; Tribes; public officials; organizations; and the public.

DATES: The ROD was signed and became effective April 10, 2025.

ADDRESSES: Obtaining Documents: You may obtain copies of the ROD and additional project information on the USGS National Wildlife Health Center website— https://www.usgs.gov/center/nwhc. Copies of the Final Environmental Impact Statement are available by request to the USGS Information Contact below.

FOR FURTHER INFORMATION CONTACT: Jordan Sizemore, National Environmental Policy Act (NEPA) Project Manager, by phone at 360-929-0783, or by email at jsizemore@usgs.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

(1) The ROD, pursuant to the NEPA of 1969, 42 U.S.C. 4321 et seq.,¹ completes the NEPA process and documents the decision regarding the proposal by the USGS to develop an updated facility for the NWHC, located on a 24-acre tract of Federal property in Madison, Wisconsin (the Proposed Action).

¹ Executive Order 14154, Unleashing American Energy (Jan. 20, 2025), and a Presidential Memorandum, Ending Illegal Discrimination and Restoring Merit-Based Opportunity (Jan. 21, 2025), require the Department to strictly adhere to NEPA, 42 U.S.C. 4321 et seq. Further, such Order and Memorandum repeal Executive Orders 12898 (Feb. 11, 1994) and 14096 (Apr. 21, 2023). Because Executive Orders 12898 and 14096 have been repealed, complying with such Orders is a legal impossibility. The USGS verifies that it has complied with the requirements of NEPA, including the Department's regulations and procedures implementing NEPA at 43 CFR part 46 and Part 516 of the Departmental Manual, consistent with the President's January 2025 Order and Memorandum.

(2) The decision is based on information and analysis contained in the draft environmental impact statement (EIS) issued June 14, 2024, and the final EIS issued November 22, 2024. These documents outline the USGS's considerations and evaluation of the environmental consequences in making a decision on the proposed action. The USGS considerations were informed by comments and input received from elected and appointed officials; Federal, State, county, and local agencies; federally recognized Tribes; organizations; and individuals.

Background

The NWHC operates out of two primary buildings, the Main Building, constructed in the 1960s and renovated in 1982, and the Tight Isolation Building, constructed in 1985 and modified in 1989. Starting in 2008, multiple studies of the current facilities found over-crowded laboratories and administrative areas; inefficient infrastructure (e.g., heating, ventilation, and air conditioning systems) that does not meet current standards for energy efficiency; and extensive wear and tear due to the age of the buildings and associated equipment. Efforts to repair systems and facilities have provided only short-term relief.

The purpose of the proposed action is to update the aging NWHC facility to incorporate technological advances in biosafety engineering, building infrastructure, and mechanical systems and to add additional space for enhanced animal care and research. The NWHC needs modernized facilities with sufficient space and modern technologies to support its mission of providing essential national research. The existing facilities require ongoing maintenance and replacement of aging building mechanical systems to maintain current operations. Studies indicate that continuing to maintain and update the current facility to meet the mission and function of the NWHC is cost prohibitive and not effective.

The NWHC needs facilities that provide functional space for administration and operations and meet health and safety standards and regulatory requirements. Adequate space is needed to conduct research into wildlife disease detection, enhance animal-care conditions, and strengthen other programs that support the NWHC mission. In addition, modernized infrastructure and mechanical systems are needed to efficiently implement the latest operating and management approaches for facility operations. These modernizations would further enhance the NWHC's capability to safely conduct research and diagnostics.

On September 5, 2023, the USGS initiated the NEPA process for the proposed action with publication in the Federal Register of a notice of intent (NOI) to prepare an EIS. The NOI began a 45-day public scoping period.

The USGS hosted an in-person public scoping meeting in Madison, Wisconsin, on September 21, 2023, and a virtual scoping meeting on September 28, 2023. On June 14, 2024, the draft EIS notice of availability was published in the Federal Register, initiating the 45-day public comment period. During this time, the USGS hosted both a virtual and in-person public meeting on July 18, 2024. On November 22, 2024, the final EIS was issued.

Throughout the NEPA process, the USGS invited Federal, State, county, and local agencies; federally recognized Tribes; officials; organizations; and the public to participate in the public involvement process. The USGS also published information about how to participate during public comment periods in the Wisconsin State Journal and Capital Times, posted information on the project website, and emailed such information to all elected and appointed officials; Federal, State, county, and local agencies; federally recognized Tribes; organizations; and individuals on the project contact list. Additionally, USGS committed to an expansive public outreach process that included engagement with the local community to gain insight into community context.

Alternatives considered in the EIS were identified by the USGS during previous studies, internal evaluations, and the public scoping process. The preliminary alternatives were refined based on information gained through the public scoping process. The preferred alternative in the EIS is the development of a new NWHC on the existing property in Madison, Wisconsin. The EIS also considered the no action alternative, under which no updates would be completed to the existing facilities and no new facilities would be developed. Other alternatives identified during internal and public scoping were considered as outlined in section 2.2 of the final EIS and eliminated because they did not substantially meet the purpose of, and need for, the proposed action.

Decision and Rationale for Decision

The USGS decided to implement the preferred alternative, development of a new NWHC on the existing NWHC property in Madison, Wisconsin, as identified in the EIS. This selection was based on the following detailed in the EIS:

• Consultations with Federal, State of Wisconsin, county, and local agencies; Tribes, public officials, organizations, and the public;

• Consideration of potential environmental consequences;

• Need for modernized facilities with sufficient space and modern technologies to support the NWHC's mission of providing essential national research;

• Public comments on received for the draft and final EISs; and

• Material and information contained in previous planning and technical studies.

Development of the new NWHC in Madison, Wisconsin, is contingent on the availability of funding sufficient to proceed.

Authority: We provide this notice in accordance with the requirements of NEPA, as amended and the Department's regulations and procedures implementing NEPA at 43 CFR part 46 and part 516 of the Departmental Manual.

Anne Barrett,
Acting Deputy Director for Administration and Policy, U.S. Geological Survey.

[FR Doc. 2025-18925 Filed 9-29-25; 8:45 am]

BILLING CODE 4338-11-P